DEPARTMENT OF DEFENSE

Department of the Air Force

Notice of Intent To Grant a Partially-Exclusive Patent License in the Field of Wearables

AGENCY: Department of the Air Force, Department of Defense.

ACTION: Notice of intent.

SUMMARY: Pursuant to the Bayh-Dole Act and implementing regulations, the Department of the Air Force hereby gives notice of its intent to grant a Partially-Exclusive Patent License in the field of wearables to FlexEnergy LLC, a small business, limited liability corporation having a place of business at 6969 Worthington Galena Blvd., Suite D, Worthington, Ohio 43085.

DATES: Written objections must be filed no later than fifteen (15) calendar days after the date of publication of this Notice.

ADDRESSES: Submit written objections to Jeremy Gratsch, AFRL/RXOP, 2977 Hobson Way, WPAFB, OH 45433; Telephone: 937-255-0010; or email: jeremy.gratsch@us.af.mil. Include Docket No. ARX-211019B-PLA in the subject line of the message.

FOR FURTHER INFORMATION CONTACT: Jeremy Gratsch, AFRL/RXOP, 2977 Hobson Way, WPAFB, OH 45433; Telephone: 937-255-0010; or email: jeremy.gratsch@us.af.mil.

SUPPLEMENTARY INFORMATION: The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Abstract of Patent Application(s)

—A composite electrode. The composite electrode including an active material, a conductive additive, a binder, and a solvent. The composite electrode may be cast or printed.

—A method of applying a separator ink onto a dried electrode of a lithium ion battery. The method includes preparing a separator ink suspension, applying the separator ink suspension onto the dried electrode, and drying the applied separator ink suspension. The separator ink suspension includes a binder comprising 20 wt % to 50 wt % of a total weight of the separator ink suspension, the binder being selected from the group consisting of PVDF, PVDF-HFP, PTFE, PEO, PMMA, PAN, CNC, SBR, and combinations thereof; a solvent selected from the group consisting of NMP, DMF, acetone, DMAc, DMSO, trimethyl urea, triethyl phosphate, and combinations thereof; a non-solvent selected from the group consisting of glycerol, water, ethanol, methanol, ethylene glycol, diethylene glycol, triethylene glycol, hexane, heptane, and combinations thereof; and a ceramic filler comprising 50 wt % to 80 wt % of the total weight of the composite electrolyte the ceramic filler being selected from the group consisting of Al2O3, SiO2, TiO2, MgO, Li2O, LiAlO2, BaTiO3, LAGP, LATP, LLTO, and combinations thereof.

Intellectual Property

—U.S. Application Publication No. 2020/0313182 and entitled “Bendable, Creasable, and Printable Batteries with Enhanced Safety and High Temperature Stability—Methods of Fabrication, and Methods of Using the Same,” published on 1 October 2020.

—U.S. Application Publication No. 2020/0313184 and entitled “Bendable, Creasable, and Printable Batteries with Enhanced Safety and High Temperature Stability—Methods of Fabrication, and Methods of Using the Same,” published on 1 October 2020.

Tommy Lee,
Air Force Federal Register Liaison Officer.

[FR Doc. 2021-27049 Filed 12-14-21; 8:45 am]

BILLING CODE 5001-10-P